SECURITIES AND EXCHANGE COMMISSION

[Release No. 34-52688; File No. SR-NYSE-2005-66]

Self-Regulatory Organizations; New York Stock Exchange, Inc.; Notice of Filing of Proposed Rule Change and Amendment No. 1 Thereto to Amend Rule 460 (Specialists Participating in Contests)

Correction

In notice document E5-6091 beginning on page 66879 in the issue of Thursday, November 3, 2005, make the following correction:

On page 66880, in the first column, the entire “.25” paragraph should be italicized.

[FR Doc. Z5-6091 Filed 11-7-05; 8:45 am]

BILLING CODE 1505-01-D